DEPARTMENT OF COMMERCE

National Oceanic and Atmospheric Administration

RIN 0648-XV76

Endangered Species; File No. 14754

AGENCY: National Marine Fisheries Service (NMFS), National Oceanic and Atmospheric Administration (NOAA), Commerce.

ACTION: Issuance of permit.

SUMMARY: Notice is hereby given that Isaac Wirgin, PhD, New York University School of Medicine, Department of Environmental Medicine, Tuxedo, NY 10987, has been issued a permit to take shortnose sturgeon (Acipenser brevirostrum) for purposes of scientific research.

ADDRESSES: The permit and related documents are available for review upon written request or by appointment in the following office(s):

• Permits, Conservation and Education Division, Office of Protected Resources, NMFS, 1315 East-West Highway, Room 13705, Silver Spring, MD 20910; phone (301) 713-2289; fax (301) 713-0376; and

• Northeast Region, NMFS, Protected Resources Division, 55 Great Republic Drive, Gloucester, MA 01930; phone (978) 281-9328; fax (978) 281-9394.

FOR FURTHER INFORMATION CONTACT: Malcolm Mohead or Jennifer Skidmore, (301) 713-2289.

SUPPLEMENTARY INFORMATION: On February 8, 2010, notice was published in the Federal Register (75 FR 6184) that a request for a scientific research permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The applicant is authorized to conduct research on shortnose sturgeon to determine if early life-stages of shortnose sturgeon are sensitive to PCB and TCDD mixtures potentially affecting recruitment success in environments such as in the Hudson River. This permit allows the importation of up to 25,000 fertilized shortnose sturgeon eggs of Saint John River ancestry from Acadian Sturgeon and Caviar Inc., Saint John, NB, Canada. The initial proposed research will take place during two sampling seasons beginning in the spring of 2010 and ending in the spring of 2011. In subsequent years of the permit, as amended, studies would take place evaluating the toxic effects of other contaminants. The permit would not authorize any takes from the wild, nor would it authorize any release of captive sturgeon into the wild.

Issuance of this permit, as required by the ESA, was based on a finding that such permit (1) was applied for in good faith, (2) will not operate to the disadvantage of such endangered or threatened species, and (3) is consistent with the purposes and policies set forth in section 2 of the ESA.

Dated: April 7, 2010.
Jolie Harrison,
Acting Chief, Permits, Conservation and Education Division, Office of Protected Resources, National Marine Fisheries Service.

[FR Doc. 2010-8549 Filed 4-13-10; 8:45 am]

BILLING CODE 3510-22-S